DEPARTMENT OF COMMERCE

Submission for OMB Review; Comment Request

The Department of Commerce will submit to the Office of Management and Budget (OMB) for clearance the following proposal for collection of information under the provisions of the Paperwork Reduction Act.

Agency: U.S. Census Bureau.

Title: Report of Organization (formerly titled Company Organization Survey).

OMB Control Number: 0607-0444.

Form Number(s): NC-99001 and NC-99007.

Type of Request: Revision of a currently approved collection.

Number of Respondents: 87,000.

Average Hours per Response: 1 hour and 23 minutes.

Burden Hours: 120,544.

Needs and Uses: The Census Bureau requests a revision of the currently approved Report of Organization data collection for survey years 2017, 2018 and 2019. We request an extension of the current expiration date to December 2020 to complete the data collection for the 2017, 2018 and 2019 Report of Organization. We are changing the name of the collection from the Company Organization Survey to the Report of Organization to reflect how the survey name is presented in the survey instrument and public-facing documentation.

The Census Bureau conducts the annual Report of Organization to update and maintain a centralized, multipurpose Business Register (BR). In particular, the survey supplies critical information on the organizational structure, operating characteristics, and employment and payroll of multi-establishment enterprises.

For survey year 2017, the Report of Organization will be conducted in conjunction with the 2017 Economic Census, as has been done for previous economic censuses. During this year, all multi-establishment companies will receive Report of Organization inquiries. In survey years 2018 and 2019, only a sample of multi-establishment and single-location companies will receive Report of Organization inquiries.

Form NC-99001 is directed to multi-establishment location enterprises during census and non-census years. For census years, however, only establishments with industry classifications that are out-of-scope of the economic census will receive this questionnaire. In-scope establishments will receive these inquiries through the Economic Census questionnaires. We ask questions on ownership or control by a domestic parent, ownership or control by a foreign parent, and ownership of foreign affiliates; research and development; company activities such as employees from a professional employer organization. Establishment inquiries include questions on operational status, mid-March employment, first-quarter payroll, and annual payroll of establishments. Beginning with the 2017 collection, a new question regarding cooperative organization status will be included in the instrument but respondents will no longer receive inquiries pertaining to the Enterprise Statistics Program as the program has been suspended.

During the 2018 and 2019 Report of Organization collection, the Census Bureau will use Form NC-99007 to collect data from large single-location enterprises that may have added some locations. The NC-99007 questionnaire is not applicable to economic census collections.

The information collected by the Report of Organization is used to maintain and update the BR. The BR serves two fundamental purposes:

• First and most important, the BR provides sampling populations and enumeration lists for the Census Bureau's economic surveys and censuses. Essential for this purpose is the BR's ability to identify all known United States business establishments and their parent companies. Further, the BR must accurately record basic business attributes needed to control sampling and enumeration. These attributes include industry and geographic classifications, measures of size and economic activity, ownership characteristics, and contact information (for example, name and address).

• Second, the BR provides establishment data that serve as the basis for the annual County Business Patterns (CBP) statistical series. The CBP reports present data on number of establishments, first quarter payroll, annual payroll, and mid-March employment summarized by industry and employment size class for the United States, the District of Columbia, island areas, counties, and county-equivalents. No other annual or more frequent series of industry statistics produced by the Census Bureau provides comparable detail, particularly for small geographic areas.

Affected Public: Business or other for-profit; Not-for-profit institutions; Farms; State, local or tribal government.

Frequency: Annually.

Respondent's Obligation: Mandatory.

Legal Authority: The 2017-2019 Report of Organization will be conducted under the provisions of Title 13 of the United States Code, Sections 131 and 182. Sections 224 and 225 make the survey mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-22848 Filed 10-19-17; 8:45 am]

BILLING CODE 3510-07-P